DEPARTMENT OF STATE

[Public Notice 10459]

In the Matter of the Designation of al-Ashtar Brigades (AAB), aka Saraya al-Ashtar, as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to al-Ashtar Brigades (AAB), also known as Saraya al-Ashtar.

Therefore, I hereby designate the aforementioned organization and its aliases as a foreign terrorist organization pursuant to section 219 of the INA.

This determination shall be published in the Federal Register.

Dated: June 19, 2018.
Michael R. Pompeo,
Secretary of State.

[FR Doc. 2018-14837 Filed 7-10-18; 8:45 am]

BILLING CODE 4710-AD-P